DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian National Railway Company

[Waiver Petition Docket Number FRA-2008-0060]

The Canadian National Railway Company (CN), a Class I railroad, on its own behalf and for its wholly-owned United States operating subsidiaries, seeks a waiver of compliance from certain provisions of Title 49 CFR Part 232—Brake System Safety Standards. Specifically, CN has petitioned FRA for a clarification of Part 232.103 (n)(1) Securement of unattended equipment to allow a railroad to determine that zero is a sufficient number of hand brakes to secure equipment under the regulation when the railroad decides that the yard location is effectively leveled in the area where the cars are staged. Alternately, CN requests a waiver from the requirement of Part 232.103 (n)(1) Securement of unattended equipment to allow CN to apply no handbrakes to hold the equipment at these specified locations:

1. Battle Creek Yard, Battle Creek, MI;

2. Destrehan Yard, Destrehan, LA;

3. Flat Rock Yard, Flat Rock, MI

4. Glenn Yard, Forest View, IL;

5. Green Bay Yard, Green Bay, WI;

6. Hawthorne Yard, Cicero, IL;

7. Mays Yard, New Orleans, LA;

8. Neenah Yard, Neenah, WI;

9. Pokegama Yard, Pokegama, WI; and

10. Stevens Point Yard, Stevens Point, WI.

CN has identified these locations as yards which are virtually leveled, or where the ends of the yard are “bowl” shaped to contain rolling equipment, and where CN maintains that equipment may be safely left unattended without hand brakes applied.

Under CN's previous interpretation of Part 232.103 (n)(1), CN states that they previously safely operated over the past number of years at several of these locations with a zero hand brake applied policy. CN has suspended that policy pending the outcome of this petition. CN states that under its previous policy, they experienced no unintended equipment roll-outs at these locations, which they attributed to the flat or “bowl” shaped configuration of these yards. CN also states that safety and efficiency of operation were improved, due to reduction of employee exposure to injury while applying or releasing handbrakes, and that wheel damage caused by the failure of a crew to release hand brakes before equipment movement was reduced.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0060) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on July 9, 2008.
Grady C. Cothen, Jr.,
Deputy Associate Administrator for Safety Standards and Program Development.

[FR Doc. E8-16131 Filed 7-14-08; 8:45 am]

BILLING CODE 4910-06-P